TENNESSEE VALLEY AUTHORITY

Continuation of the Regional Energy Resource Council and Regional Resource Stewardship Council

AGENCY: Tennessee Valley Authority (TVA).

ACTION: Renewal and re-establishment of Federal Advisory Committees.

SUMMARY: Pursuant to the Federal Advisory Committee Act (FACA), the Regional Energy Resource Council (RERC) and Regional Resource Stewardship Council (RRSC) may continue for additional two-year periods.

FOR FURTHER INFORMATION CONTACT: Bekim Haliti, bhaliti@tva.gov, 931-349-1894.

SUPPLEMENTARY INFORMATION: Pursuant to FACA and its implementing regulations, and following consultation with the Committee Management Secretariat, General Services Administration (GSA) in accordance with 41 CFR 102-3.60(a), notice is hereby given that the RERC and RRSC have been approved for additional two-year periods. The RERC will provide advice to TVA on its issues affecting energy resource activities. The RERC was originally established in 2013 to advise TVA on its energy resource activities and the priority to be placed among competing objectives and values. It has been determined that the RERC continues to be needed to provide an additional mechanism for public input regarding energy resource issues. The charter can be found at www.tva.com/rerc. The RRSC will provide advice to TVA on its issues affecting natural resources and stewardship activities. The RRSC was originally established in 2000 to advise TVA on its natural resources and stewardship activities and the priority to be placed among competing objectives and values. It has been determined that the RRSC continues to be needed to provide an additional mechanism for public input regarding natural resources and stewardship issues. The charter can be found at www.tva.com/rrsc.

Dated: September 15, 2025.
Melanie Farrell,
TVA Designated Federal Officer, Tennessee Valley Authority.

[FR Doc. 2025-18077 Filed 9-17-25; 8:45 am]

BILLING CODE 8120-08-P